DEPARTMENT OF THE INTERIOR

U.S. Geological Survey

[GX16BD009AV0100]

Agency Information Collection Activities: Request for Comments

AGENCY: U.S. Geological Survey (USGS), Interior.

ACTION: Notice of a new information collection: Assessment of Effects of Climate on Waterfowl.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before December 29, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028—Assessment of Effects of Climate on Waterfowl' in all correspondence.

FOR FURTHER INFORMATION CONTACT: Brad Griffith, Leader, USGS, Alaska Cooperative Fish and Wildlife Research Unit at (907) 474-5067 or ffdbg@usgs.gov.

SUPPLEMENTARY INFORMATION:

I. Abstract

The USGS National Climate Change and Wildlife Science Center coordinates the research activities of 8 Regional Climate Science Centers. To increase efficiency of investigations, the relevance of research topics and the effectiveness of research it is critical to identify the types of information that are most critical for the development of a focused and integrated multi-regional research program. This is particularly true for wildlife species that migrate (e.g., waterfowl) among regions in which the direction and strength of climate effects on wildlife populations and their habitats are expected to be quite variable. This collection seeks to identify (1) the most important habitat and harvest factors that affect waterfowl population size on breeding, migratory and winter ranges, (2) the demographic traits (fecundity or survival) that are affected by these factors, (3) the likely direction and magnitude of climate effects on the most important waterfowl habitat and harvest factors that affect waterfowl population size and (4) the highest priority research needs on breeding, migratory and wintering ranges. We are collecting this information with a questionnaire survey of a sample of professional waterfowl researchers and managers because scientific papers that present this information are not available. The information we collect will identify the most important research topics within and among Regional Climate Science Centers in regard to climate effects on migratory waterfowl. We will (1) summarize the results, (2) present them at a workshop at a national scientific meeting, (3) use this presentation to facilitate further discussion among professional waterfowl researchers and managers who attend the workshop regarding research priorities and (4) publish the results of the survey and the workshop discussion in a refereed scientific publication. The only Personally Identifiable Information (PII) that we will collect will be the name and employer (State, Federal or Non-governmental Organization research or management) of the respondents to the survey. We will use these names to keep track of which questionnaire recipients have responded and to summarize the proportional composition of the types of employment of respondents. We will mail paper forms to all respondents and give them the option of filling out a web form if they prefer. We will not associate the names of recipients with summarized responses. All paper form responses received will be kept in a locked cabinet and web form responses will be encrypted. After publication of the summarized results we will remove the name of respondents from both the paper forms and web forms.

II. Data

OMB Control Number: 1028—NEW.

Title: Assessment of Effects of Climate on Waterfowl.

Type of Request: New information collection.

Affected Public: Professional waterfowl researchers and managers that are employed by State or Federal government agencies or Non-governmental Organizations (NGO) such as the Migratory Bird Joint Ventures.

Respondent's Obligation: None, participation is voluntary.

Frequency of Collection: One time.

Estimated Annual Number of Respondents: 100; Public NGO 20, State and Local Govt. 20, Federal Govt. 60.

Estimated Total Number of Annual Responses: 100.

Estimated Time per Response: 60 minutes.

Estimated Annual Burden Hours: 100.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

John Thompson,
Deputy Chief, U.S. Geological Survey, Cooperative Research Units.

[FR Doc. 2015-27730 Filed 10-29-15; 8:45 am]

BILLING CODE 4338-11-P